SMALL BUSINESS ADMINISTRATION

Intermediary Lending Pilot Program Meeting

AGENCY: U.S. Small Business Administration (SBA).

ACTION: Notice of open meetings.

SUMMARY: The SBA is issuing this notice to announce the locations, dates, times, and agendas for public meetings regarding the Intermediary Lending Pilot (ILP) program established by the Small Business Jobs Act of 2010. The meetings will be open to the public.

DATES: The meeting dates and times are:

1. April 27, 2011, 9 a.m. to 11 a.m., San Francisco, CA.

2. May 5, 2011, 9 a.m. to 11 a.m., Washington, DC.

ADDRESSES: The meeting locations are:

1. San Francisco—SBA San Francisco District Office (Entrepreneur Center), 455 Market Street, Suite 600, San Francisco, CA 94105-2420.

2. Washington, DC—SBA Washington Metropolitan Area District Office (Conference Room), 740 15th Street, NW., Suite 300, Washington, DC 20005.

SUPPLEMENTARY INFORMATION: The SBA is holding open meetings to discuss the ILP program established in the Small Business Jobs Act of 2010 (Pub. L. 111-240). The ILP program is a three-year pilot program in which SBA will make direct loans of up to $1 million at an interest rate of 1 percent to up to 20 nonprofit lending intermediaries each year, subject to availability of funds. Intermediaries will then use the ILP loan funds to make loans of up to $200,000 to startup, newly established, or growing small business concerns. SBA regulations implementing the ILP program were published in the Federal Register on April 1, 2011 (76 FR 18007).

The purpose of these meetings is to provide general information to potential applicants on the requirements of the ILP program and the application and selection process to become an ILP Intermediary. SBA will not discuss specific applications at these meetings. The ILP program meetings are open to the public; however, seating is limited, so advance notice of attendance is requested. To register for an ILP program public meeting, please contact:

1. San Francisco—Steve Bangs, (415) 744-6792, fax (415) 744-6812, or e-mail r.bangs@sba.gov (please make sure the subject line reads ILP).

2. Washington, DC—Joanne Steiger, (202) 272-0348, fax (202) 481-5929, or e-mail joanne.steiger@sba.gov (please make sure the subject line reads ILP).

Reasonable accommodation for individuals with disabilities will be provided to those who request assistance at least two weeks in advance. If you are unable to attend the meeting in person, you may participate by telephone by calling (866) 740-1260 and using access code 3702102.

Grady B. Hedgespeth,
Director, Office of Financial Assistance.

[FR Doc. 2011-8776 Filed 4-12-11; 8:45 am]

BILLING CODE 8025-01-P